DEPARTMENT OF ENERGY

Federal Energy Regulatory Commission

[Docket No. RP08-374-000]

Maritimes & Northeast Pipeline, LLC; Notice of Technical Conference

June 27, 2008.

The Commission's June 11, 2008, Order in the above-captioned proceeding ¹ directed that a technical conference be held to address issues raised by Maritimes & Northeast Pipeline, LLC's proposed gas quality and interchangeability specifications.

¹ Maritimes & Northeast Pipeline, LLC, 123 FERC ¶ 61,256 (2008).

Take notice that a technical conference will be held on Tuesday, July 15, 2008, at 9:30 a.m., in a room to be designated at the offices of the Federal Energy Regulatory Commission, 888 First Street, NE., Washington, DC 20426.

FERC conferences are accessible under section 508 of the Rehabilitation Act of 1973. For accessibility accommodations please send an e-mail to accessibility@ferc.gov or call toll free (866) 208-3372 (voice) or (202) 502-8659 (TTY), or send a fax to (202) 208-2106 with the required accommodations.

All interested persons and staff are permitted to attend. For further information please contact David Maranville at (202) 502-6351 or e-mail David.Maranville@ferc.gov.

Kimberly D. Bose,
Secretary.

[FR Doc. E8-15214 Filed 7-3-08; 8:45 am]

BILLING CODE 6717-01-P